DEPARTMENT OF COMMERCE

National Oceanic and Atmospheric Administration

[RTID 0648-XB676]

North Pacific Fishery Management Council; Public Meeting

AGENCY: National Marine Fisheries Service (NMFS), National Oceanic and Atmospheric Administration (NOAA), Commerce.

ACTION: Notice of a hybrid public meeting.

SUMMARY: The North Pacific Fishery Management Council (Council) Crab Plan Team will meet January 10, 2022, through January 14, 2022.

DATES: The meeting will be held on Monday, January 10, 2022, from 10 a.m. to 5:30 p.m., Tuesday, January 11, 2022 through Thursday, January 13, 2022 from 8 a.m. to 5 p.m. and on Friday, January 14, 2022, from 8 a.m. to 12 p.m., Alaska Time.

ADDRESSES: The meeting will be a hybrid meeting. Attend in-person at the Anchorage Hilton Hotel, 500 W 3rd Ave., Anchorage, AK 99501 or join online through the link at https://meetings.npfmc.org/Meeting/Details/2733.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Diana Stram, Council staff; phone; (907) 271-2809; email: diana.stram@noaa.gov. For technical support please contact our admin Council staff, email: npfmc.admin@noaa.gov.

SUPPLEMENTARY INFORMATION:

Agenda

January 10, 2022, through Friday, January 14, 2022

The agenda will include: (a) Survey updates for Bristol Bay Red King Crab (BBRKC) resampling; (b) economic stock assessment and fishery evaluation (SAFE); (c) Norton Sound Red King Crab (NSRKC) final assessment and stock status; (d) Alaska Climate Integrated Modeling (ACLIM) management scenarios for Bering Sea stocks; (e) ecological and socioeconomic profile (ESP) update on snow crab indicator development; (f) snow crab collapse hypotheses and analyses; (g) snow crab rebuilding discussion; (h) Aleutian Island Golden King Crab (AIGKC) model explorations; (i) alternatives to mature male biomass (MMB); (j) stock assessment terms of reference (TOR); (k) risk table future direction; (l) Bering Sea Fisheries Research Foundation (BSFRF) update; (m) modeling workshop and (n) other business. The agenda is subject to change, and the latest version will be posted at https://meetings.npfmc.org/Meeting/Details/2733 prior to the meeting, along with meeting materials.

Connection Information

You can attend the meeting online using a computer, tablet, or smart phone, or by phone only. Connection information will be posted online at: https://meetings.npfmc.org/Meeting/Details/2733. If you are attending the meeting in-person, please note that all attendees will be required to wear a mask.

Public Comment

Public comment letters will be accepted and should be submitted electronically to https://meetings.npfmc.org/Meeting/Details/2733.

Authority: 16 U.S.C. 1801 et seq.

Dated: December 21, 2021.
Tracey L. Thompson,
Acting Deputy Director, Office of Sustainable Fisheries, National Marine Fisheries Service.

[FR Doc. 2021-28014 Filed 12-23-21; 8:45 am]

BILLING CODE 3510-22-P